DEPARTMENT OF VETERANS AFFAIRS

[OMB Control No. 2900-0680]

Proposed Information Collection Activity: Proposed Collection; Comment Request

AGENCY: Office of Policy, Planning and Preparedness, Department of Veterans Affairs.

ACTION: Notice.

SUMMARY: The Office of Policy, Planning and Preparedness (OPP&P), Department of Veterans Affairs (VA), is announcing an opportunity for public comment on the proposed collection of certain information by the agency. Under the Paperwork Reduction Act (PRA) of 1995, Federal agencies are required to publish notice in the Federal Register concerning each proposed collection of information, including each proposed extension of a currently approved collection of information, and allow 60 days for public comment in response to the notice. This notice solicits comments on information needed to determine a disability rating system for veterans and their survivors.

DATES: Written comments and recommendations on the proposed collection of information should be received on or before September 11, 2006.

ADDRESSES: Submit written comments on the collection of information to George Fitzelle, Office of Policy, Planning and Preparedness (008B2), Department of Veterans Affairs, 810 Vermont Ave., NW., Washington, DC 20420 or e-mail george.fitzelle@va.gov. Please refer to “OMB Control No. 2900-0680” in any correspondence.

FOR FURTHER INFORMATION CONTACT: George Fitzelle at (202) 273-5109 or FAX (202) 273-5993.

SUPPLEMENTARY INFORMATION: Under the PRA of 1995 (Pub. L. 104-13; 44 U.S.C. 3501-3521), Federal agencies must obtain approval from the Office of Management and Budget (OMB) for each collection of information they conduct or sponsor. This request for comment is being made pursuant to Section 3506(c)(2)(A) of the PRA.

With respect to the following collection of information, the Office of Policy, Planning and Preparedness invites comments on: (1) Whether the proposed collection of information is necessary for the proper performance of VA's functions, including whether the information will have practical utility; (2) the accuracy of VA's estimate of the burden of the proposed collection of information; (3) ways to enhance the quality, utility, and clarity of the information to be collected; and (4) ways to minimize the burden of the collection of information on respondents, including through the use of automated collection techniques or the use of other forms of information technology.

Title: Veterans' Disability Benefits Commission Survey.

OMB Control Number: 2900-0680.

Type of Review: Extension of a currently approved collection.

Abstract: The data collected on the Veterans' Disability Benefits Commission survey will be used to determine whether disabled veterans and their survivors are appropriately compensated for impact of disability on quality of life under the current disability rating system. The Veterans' Disability Commission will use the survey data along with other collected information to develop recommendations for the disability benefits program in a report to the President and Congress.

Affected Public: Individuals or households and Not-for-Profit-Institutions.

Estimated Total Annual Burden: 12,865 hours.

Estimated Average Burden per Respondent: 30 minutes.

Frequency of Response: One-time.

Estimated Number of Respondents: 25,063.

Dated: June 30, 2006.
By direction of the Secretary.
Denise McLamb,
Program Analyst, Records Management Service.

[FR Doc. E6-10965 Filed 7-12-06; 8:45 am]

BILLING CODE 8320-01-P